DEPARTMENT OF EDUCATION

Office of Special Education and Rehabilitative Services; Overview Information; Technology and Media Services for Individuals With Disabilities—Center on Technology Implementation; Notice Inviting Applications for New Awards for Fiscal Year (FY) 2009

Catalog of Federal Domestic Assistance (CFDA) Number: 84.327G.

Dates:

Applications Available: July 10, 2009.

Deadline for Transmittal of Applications: August 10, 2009.

Deadline for Intergovernmental Review: August 19, 2009.

Full Text of Announcement

I. Funding Opportunity Description

Purpose of Program: The purposes of the Technology and Media Services for Individuals with Disabilities program are to: (1) Improve results for children with disabilities by promoting the development, demonstration, and use of technology, (2) support educational media services activities designed to be of educational value in the classroom setting to children with disabilities, and (3) provide support for captioning and video description of educational materials that are appropriate for use in the classroom setting.

Priority: In accordance with 34 CFR 75.105(b)(2)(v), this priority is from allowable activities specified in the statute or otherwise authorized in the statute (see sections 674 and 681(d) of the Individuals with Disabilities Education Act (IDEA), 20 U.S.C. 1474 and 1481(d)).

Absolute Priority: For FY 2009 and any subsequent year in which we make awards from the list of unfunded applicants from this competition, this priority is an absolute priority. Under 34 CFR 75.105(c)(3), we consider only applications that meet this priority.

This priority is:

Technology and Media Services for Individuals with Disabilities—Center on Technology Implementation.

Background: Students with disabilities can benefit from the use of instructional and assistive technology (D.P. Bryant, Goodwin, & B.R. Bryant, 2003; L.S. Fuchs, D. Fuchs, Hamlet, Powell, Capizzi, & Seethaler, 2006; Slavin, Cheung, Groff, & Lake, C., 2008; Slavin & Lake, 2007). However, research suggests that the benefits of using technology depend on the quality of the implementation of the technology (Fitzer, et al., 2007; Zorfass & Rivero, 2005; Slavin, et al., 2008; Morrison, 2007; Todis, 2001).

Implementation of any practice or program is a topic of general concern in education and, fortunately, there is a growing body of knowledge on implementing educational innovations that can help ensure that innovations (including technology innovations) are implemented and sustained with fidelity and effectiveness (Bond, Drake, McHugo, Rapp, Whitley, & National Evidence-Based Practices Project Research Group, in press; Fixsen & Blase, 2009; Fixsen, Naoom, Blase, Friedman, & Wallace, 2005; Mueser, Torrey, Lynde, Singer, & Drake, 2003; Torrey, Lynde, & Gorman, 2005). After an extensive review of available research on implementation Fixsen, et al. (2005) identified the following core components (“implementation drivers”) as critical to the successful implementation of any program or practice: (i) Staff recruitment and selection, (ii) preservice and inservice training, (iii) ongoing consultation and coaching, (iv) staff and program evaluation, (v) facilitative administrative supports, and (vi) systems interventions. Furthermore, Fixsen, et al. also found that successful implementation of a new practice or program involves a multiyear process that progresses through stages, including exploration and adoption, program installation, initial implementation, full operation, innovation, and sustainability.

There is a growing body of knowledge focusing specifically on the implementation of technology. For example, the following factors have been shown to affect the implementation of technology programs or practices in education: Teacher motivation to use the technology being implemented; compatibility between the technology being implemented and the teacher's pedagogical orientation; the availability of ongoing technology planning and administrative support; professional development relevant to the technology being implemented; and school readiness and infrastructure to support the technology being implemented (Blumenfeld, Fishman, Krajcik, & Marx, 2000; Cradler, 1995; Ertmer, 2005; Glazer, Hannafin, & Song, 2005). To achieve the full benefits of technology for children with disabilities, schools must effectively implement the technology practices or programs. Schools, therefore, can benefit tremendously from having access to better information on effective technology implementation strategies and TA to aid them in successfully implementing technology practices and programs on their own.

Priority: The purpose of this priority is to fund a cooperative agreement to support the establishment and operation of a Center on Technology Implementation (Center) that will develop, test, and disseminate the following two types of products to support effective and sustainable local implementation of evidence-based technology practices and programs to improve educational outcomes for students with disabilities:

(1) Implementation Resource Kits. The Center's Implementation Resource Kits must be designed to guide and support the implementation of specific evidence-based technology practices or programs for local educational agencies (LEAs).

(2) Implementation Practice Guide. The Center's Implementation Practice Guide must summarize available evidence and provide general guidance (not limited to a specific practice or program) on implementing technology programs and practices to benefit students with disabilities.

To be considered for funding under this absolute priority, applicants must meet the application requirements contained in this priority. Any project funded under this absolute priority also must meet the programmatic and administrative requirements specified in the priority.

Application Requirements. An applicant must include in its application—

(a) A detailed plan for implementing the activities described in the Project Activities section of this priority, including:

(1) A dissemination plan that describes the Center's strategy for communicating findings (upon review and approval from OSEP) to key stakeholders, including:

(i) Professional organizations, including but not limited to, the Council of Administrators of Special Education, the National Association of State Directors of Special Education, the Council of the Great City Schools, the Council for Exceptional Children, the National Education Association, The Rehabilitation Engineering and Assistive Technology Society of North America (RESNA) and the American Federation of Teachers.

(ii) Federal technical assistance and dissemination projects, including (but not limited to) the Regional Resource Centers funded under the Individuals with Disabilities Education Act, the Comprehensive Centers and State Educational Technology projects funded under the Elementary and Secondary Education Act of 1965, as amended, statewide assistive technology programs as funded under the Assistive Technology Act of 1998 (as amended), and other relevant Federal projects as determined by OSEP; and

(iii) Technology developers, vendors and researchers.

(2) The dissemination plan must include provisions for preparing national and State TA providers to disseminate and use the Implementation Resource Kits and Implementation Practice Guide without the need for ongoing TA from the Center and after the end of the project period.

(c) A budget for attendance at the following:

(1) A one and one half day kick-off meeting to be held in Washington, DC, within four weeks after receipt of the award, and an annual planning meeting held in Washington, DC, with the OSEP Project Officer during each subsequent year of the project period.

(2) A three-day Project Directors' Conference in Washington, DC, during each year of the project period; and

(3) A two-day technology project director's meeting in Washington, DC, during each year of the project period.

Project Activities. To meet the requirements of this priority, the Center must conduct the following activities:

(a) Conduct an ongoing review of research and scholarly literature on the implementation of practices and programs in education, with an emphasis on implementing instructional and assistive technology practices and programs with students with disabilities.

(b) Select at least three evidence-based technology practices and programs (which must include at least one technology program, as defined in this notice) upon which to base the development of Implementation Resource Kits. The evidence base for each selected technology practice or program must meet a standard of rigor similar to those applied by one of the following: the What Works Clearinghouse (http://ies.ed.gov/ncee/wwc/references), the Best Evidence Encyclopedia (http://www.bestevidence.org/methods/methods.htm), or the Campbell Collaboration (http://www.campbellcollaboration.org).

Note: The technology practices and programs selected pursuant to paragraph (b) of this section of the priority must make integral use of technology, but may involve other materials and activities as well (e.g., computers used in combination with other hard copy textual materials or World Wide Web activities incorporated into inquiry-based classroom activities).

For purposes of this priority, the following definitions apply ¹:

¹ These definitions of “technology practice” and “technology program” are adapted from Fixsen, et al. (2005 p. 26). The examples provided with these definitions are provided for illustrative purposes only and are not intended to guide the Center's selections nor to imply endorsement of them as evidence based practices.

(1) Technology practices are skills, techniques, and strategies involving the use of technology that can be used by practitioners to achieve educational outcomes for students with disabilities. Examples of technology practices include using word processors in writing instruction and making classroom accommodations to integrate AT devices into instruction.

(2) Technology programs are integrated collections of technology practices that are performed within a set of defined parameters (e.g., a defined philosophy, a defined service delivery structure, or a defined set of treatment components). Examples of technology programs include schoolwide progress monitoring programs that uses a Web-based system for interpreting data and selecting educational interventions, and programs for systematically assessing individual student needs for assistive technology and supporting the use of the technology in educational settings.

(c) Develop a detailed conceptual framework for implementing each technology practice or program selected pursuant to paragraph (b) of this section of the priority. The Center's detailed conceptual frameworks must—

(1) Describe the core intervention components of the selected technology practices or programs (i.e., key elements such as materials, procedures, teacher resources, and environmental features that must be maintained for the practice or program to be effective);

(2) Describe the core implementation components (as well as their sources) needed for successful implementation of the selected technology practices and programs through all phases of implementation (i.e., initial exploration and adoption through initial implementation, full operation, innovation, and sustainability). (For more information about “core intervention components” and “core implementation components,” see Fixsen et al., 2005, pp. 24-26, and 28-34, respectively);

(3) Describe the anticipated impact on the target group or groups of students, including changes in their learning outcomes and how mediating and moderating variables (e.g., instructional methodology, time-on-task, learning supports, class structure) may affect how well the technology practice or program supports student learning outcomes;

(4) Serve as a basis for designing the Implementation Resource Kits and the formative and summative evaluations of the project.

(d) Develop an Implementation Resource Kit based on the detailed conceptual framework for each selected technology practice and program. (For more information on Implementation Resource Kits, also referred to as implementation packages and toolkits, see Mueser, et al., 2003; Torrey, et al., 2005; and McHugo, et al., 2007). The Center must design its Implementation Resource Kits to be usable by TA providers and core implementation components that are typically available to LEAs, so that the Implementation Resource Kits will continue to be used after the completion of the Center's project period. In developing the Implementation Resource Kits, the Center must perform field-based tryouts and formative evaluations of the Implementation Resource Kits, in order to refine and revise the kits, as needed. Each Implementation Resource Kit must include at least the following:

(1) Procedures and instruments to assess the implementation readiness and the implementation needs of the LEA (at the teacher, school, and LEA levels). These procedures and instruments may include surveys, resource inventories, school or LEA self-study guides, observational instruments, and other suitable procedures and instruments and must be drawn to the greatest extent possible from existing procedures and instruments that have been studied and validated in previous research.

(2) Methods and resources to support the implementation process at its various levels (teacher, school, LEA) and through its various phases from initial exploration and adoption through sustainability. These methods and resources may include: Interactive professional development activities and media, community-of-practice guidelines and resources, online awareness and skill development resources, video and multi-media products, sample language for inclusion in technology policies and plans, and public awareness materials to generate broad-based support for sustained implementation, and other suitable methods and resources. The Center should, to the maximum extent possible, include methods and resources that have previously been developed and evaluated.

(3) Procedures and instruments to evaluate implementation as it progresses through the various phases, including measures of the fidelity of implementation, the sustainability, and the impact on students with disabilities. The procedures and instruments must be designed to suggest corrective actions in cases where the implementation is not progressing as desired. The Center should, to the maximum extent possible, include procedures and instruments that have been studied and validated in previous research.

(e) In consultation with participating State educational agencies, field-test each Implementation Resource Kit in 8 to 10 LEAs, including urban, suburban and rural school LEAs, and LEAs with high enrollments of English language learners and low-income students. In these field tests, the Center must study implementation of the selected technology practice or program over a course of at least three calendar years and the processes of implementation from adoption through full operation and sustainability. The field tests must be designed to evaluate implementation, sustainability, and impact on outcomes for students with disabilities and how the differences in variables such as type of LEA affect implementation. The field test must, to the greatest possible extent, use typically-available TA providers to utilize the Implementation Resource Kits. This will allow the field test to represent typical circumstances and will also foster the capability of the typically-available TA providers to use the Implementation Resource Kits after the end of the project period.

(f) Develop one Implementation Practice Guide on technology implementation for students with disabilities. In contrast to the Implementation Resource Kits, which apply to specific technology practices and programs, the Implementation Practice Guide must apply generally to the implementation of technology (assistive and instructional) to benefit students with disabilities. The Implementation Practice Guide must be developed by a panel of experts through a systematic process of reviewing evidence that supports specific recommendations and documenting the level of support for each recommendation. The following Web site provides examples of practice guides and the procedures for developing them: http://ies.ed.gov/ncee/wwc/publications/practiceguides.

(g) Establish and maintain an advisory committee to review the activities and outcomes of the Center and to provide programmatic support and advice throughout the project period. At a minimum, the advisory committee must meet on an annual basis in Washington, DC, and consist of individuals with knowledge and expertise in: Effective instructional technology and assistive technology, effective schoolwide and LEA-wide technology implementation practices, and rigorous evaluation methods. The committee membership must also include individuals with disabilities, parents of individuals with disabilities, and individuals from communities representing rural, low-income, urban and limited English proficiency populations. The Center must submit the names of proposed members of the advisory committee to the Office of Special Education Programs (OSEP) for approval within eight weeks after receipt of the award.

(h) Prior to developing any new paper or electronic product, submit a proposal describing the content and purpose of the product to the OSEP Project Officer and the Proposed Product Advisory Board at OSEP's Technical Assistance Coordination Center for approval.

(i) Conduct a summative evaluation of both the Implementation Resource Kits and Implementation Practice Guide in collaboration with the Center to Improve Project Performance (CIPP) as described in the following paragraphs.

Note: The major tasks of CIPP are to guide, coordinate, and oversee the summative evaluations conducted by selected Technical Assistance, Personnel Development, Parent Training and Information Centers, and Technology projects that individually receive $500,000 or more funding from OSEP annually. The efforts of CIPP are expected to enhance individual project evaluations by providing expert and unbiased assistance in designing evaluations, conducting analyses, and interpreting data.

To fulfill the requirements of the summative evaluation to be conducted under the guidance of CIPP, the Center must—

(1) Hire or designate, with the approval of the OSEP Project Officer, a project liaison staff person with sufficient dedicated time, experience in evaluation, and knowledge of the Center to work with CIPP on the following tasks:

(i) Planning for the Center's summative evaluation (e.g., selecting evaluation questions, developing a timeline for the evaluation, locating sources of relevant data, and refining the conceptual frameworks used for the evaluation).

(ii) Developing the summative evaluation design and instrumentation (e.g., determining quantitative or qualitative data collection strategies, selecting respondent samples, and pilot testing instruments).

(iii) Coordinating the evaluation timeline with the implementation of the Center's activities.

(iv) Collecting summative data.

(v) Writing reports of summative evaluation findings.

(2) Cooperate with CIPP staff in order to accomplish the tasks described in paragraph (1) of this section; and

(3) Dedicate a minimum of $65,000 of the annual budget request for this project to cover the costs of carrying out the tasks described in paragraphs (1) and (2) of this section, implementing the Center's formative evaluation and traveling to Washington, DC, in the second year of the project period for the Center's review for continued funding.

(j) Maintain ongoing communication with the OSEP Project Officer through regular teleconferences and e-mail communication.

Fourth and Fifth Years of the Project: In deciding whether to continue funding the Center for the fourth and fifth years, the Secretary will consider the requirements of 34 CFR 75.253(a), and in addition—

(a) The recommendation of a review team consisting of experts selected by the Secretary. This review will be conducted during a one-day intensive meeting in Washington, DC, that will be held during the last half of the second year of the project period. The Center must budget for travel expenses associated with this one-day intensive review;

(b) The timeliness and effectiveness with which all requirements of the negotiated cooperative agreement have been or are being met by the Center; and

(c) The degree to which the Center's activities have the potential to contribute to changed practice and improved implementation of technologies and access and progress in the general education curriculum for students with disabilities.

References: Bond, G.R., Drake, R.E., McHugo, G.J., Rapp, C.A., Whitley, R., & National Evidence-Based Practices Project Research Group. Strategies for improving fidelity in the National Evidence-Based Practices Project. Research on Social Work Practice, in press.

Blumenfeld, P., Fishman, B.J., Krajcik, J., & Marx, R.W. (2000). Creating usable innovations in systemic reform: Scaling up technology-embedded project-based science in urban schools. Educational Psychologist, 35(3), 149-164.

Bryant, D.P., Goodwin, M., & Bryant, B.R. (2003). Vocabulary Instruction for Students with Learning Disabilities: A Review of the Research. Learning Disability Quarterly, 26(2), 117-28.

Cradler, J. (1995). Implementing technology in education: Recent findings from research and evaluation studies. Far West Laboratory. Retrieved on February 1, 2008 from, http://www.wested.org/techpolicy/;recapproach.html.

Ertmer, P.A. (2005). Teacher pedagogical beliefs: the final frontier in our quest for technology integration? Educational Technology Research and Development, 53(4), 25-39.

Fitzer, K.M., Freidhoff, J.R., Fritzen, A., Heintz, A., Koehler, J., Mishra, P., Ratcliffe, J., Zhang, T., Zheng, J., & Zhou, W. (2007). Guest editorial: More questions than answers: Responding to the reading and mathematics software effectiveness study. Contemporary Issues in Technology and Teacher Education, 7(2), 1-6.

Fixsen, D.L., & Blase, K.A. (2009, January). Implementation: The missing link between research and practice. NIRN Implementation Brief #1. Chapel Hill: The University of North Carolina, FPG, NIRN.

Fixsen, D.L., Blase, K.A., Horner, R., & Sugai, G. (2009, February). Scaling-up evidence-based practices in education. Scaling-up Brief #1. Chapel Hill: The University of North Carolina, FPG, SISEP.

Fixsen, D.L., Naoom, S.F., Blase, K.A., Friedman, R.M., & Wallace, F. (2005). Implementation research: A synthesis of the literature. Tampa, FL: University of South Florida, Louis de la Parte Florida Mental Health Institute, The National Implementation Research; available at http://www.fpg.unc.edu/~nirn/resources/publications/Monograph/.

Fuchs, L.S., Fuchs, D., Hamlet, C.L., Powell, S.R., Capizzi, A.M., & Seethaler, P.M. (2006). The Effects of Computer-Assisted Instruction on Number Combination Skill in At-Risk First Graders. Journal of Learning Disabilities, 39(5), 467-75.

Glazer, E., Hannafin, M.J., & Song, L. (2005). Promoting technology integration through collaborative apprenticeship. Educational Technology Research and Development, 53(4), 57-67.

McHugo, G.M., Drake, R.E., Whitley, R., Bond, G.R., Campbell, K., Rapp, C.A., Goldman, H.H., Lutz, W., & Finnerty, M. (2007). Fidelity outcomes in the National Implementing Evidence-Based Practices Project. Psychiatric Services, 58, 1279-1284.

Morrison, K. (2007). Implementation of Assistive Computer Technology: A Model for School Systems. International Journal of Special Education, 22(1), 83-95.

Mueser, K.T., Torrey, W.C., Lynde, D., Singer, P., & Drake, R.E. (2003). Implementing evidence-based practices for people with severe mental illness. Behavior Modification, 27(3), 387-411.

Slavin, R.E. & Lake, C. (2007, February). Effective programs in elementary mathematics: A best-evidence synthesis. Baltimore, MD: Johns Hopkins University, Center for Data-Driven Reform in Education.

Slavin, R.E., Cheung, A., Groff, C., and Lake, C. (2008). Effective reading programs for middle and high schools: A best evidence synthesis. Reading Research Quarterly, 43, 3, 290-322.

Todis, B. (2001). It can't hurt: Implementing AAC technology in the classroom for students with severe and multiple disabilities. In Woodward, J., & Cuban, L. (Eds.) Technology, curriculum, and professional development: Adapting schools to meet the needs of students with disabilities. Thousand Oaks, Calif: Corwin Press.

Torrey, W.C., Lynde, D.W., & Gorman, P. (2005). Promoting the implementation of practices that are supported by research: The National Implementing Evidence-Based Practice Project. Child and Adolescent Psychiatric Clinics of North America, 14 (2), 297-306.

Zorfass, J., & Rivero, H.K. (2005). Collaboration is Key: How a Community of Practice Promotes Technology Integration. Journal of Special Education Technology, 20 (3), 51-60.

Waiver of Proposed Rulemaking: Under the Administrative Procedure Act (APA) (5 U.S.C. 553), the Department generally offers interested parties the opportunity to comment on proposed priorities and requirements. Section 681(d) of the IDEA, however, makes the public comment requirements of the APA inapplicable to the priority in this notice.

Program Authority: 20 U.S.C. 1474 and 1481.

Applicable Regulations: The Education Department General Administrative Regulations (EDGAR) in 34 CFR parts 74, 75, 77, 79, 80, 81, 82, 84, 85, 86, 97, 98, and 99.

Note: The regulations in 34 CFR part 79 apply to all applicants except Federally recognized Indian Tribes.

Note: The regulations in 34 CFR part 86 apply to institutions of higher education (IHEs) only.

II. Award Information

Type of Award: Cooperative Agreement.

Estimated Available Funds: $1,375,000.

Contingent upon the availability of funds and the quality of applications, we may make additional awards in FY 2010 from the list of unfunded applicants from this competition.

Maximum Award: We will reject any application that proposes a budget exceeding $1,375,000 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: State educational agencies; local educational agencies (LEAs), including public charter schools that are considered LEAs under State law; IHEs; other public agencies; private nonprofit organizations; outlying areas; freely associated States; Indian Tribes or Tribal organizations; and for-profit organizations.

2. Cost Sharing or Matching: This competition does not require cost sharing or matching.

3. Other: General Requirements—(a) The projects funded under this competition must make positive efforts to employ and advance in employment qualified individuals with disabilities (see section 606 of the IDEA).

(b) Applicants and grant recipients funded under this competition must involve individuals with disabilities or parents of individuals with disabilities ages birth through 26 in planning, implementing, and evaluating the projects (see section 682(a)(1)(A) of the IDEA).

IV. Application and Submission Information

1. Address To Request Application Package

Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this competition as follows: CFDA number 84.327G.

Individuals with disabilities can obtain a copy of the application package in an accessible format (e.g., braille, large print, audiotape, or computer diskette) by contacting the person or team listed under Accessible Format in section VIII of this notice.

2. Content and Form of Application Submission

Requirements concerning the content of an application, together with the forms you must submit, are in the application package for this competition.

Page Limit: The application narrative (Part III of the application) is where you, the applicant, address the selection criteria that reviewers use to evaluate your application. You must limit the application narrative to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times

Applications Available: July 10, 2009.

Deadline for Transmittal of Applications: August 10, 2009.

Applications for grants under this competition may be submitted electronically using the Electronic Grant Application System (e-Application) accessible through the Department's e-Grants site, or in paper format by mail or hand delivery. For information (including dates and times) about how to submit your application electronically, or in paper format by mail or hand delivery, please refer to section IV.6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 19, 2009.

4. Intergovernmental Review

This competition is subject to Executive Order 12372 and the regulations in 34 CFR part 79. Information about Intergovernmental Review of Federal Programs under Executive Order 12372 is in the application package for this competition.

5. Funding Restrictions

We reference regulations outlining funding restrictions in the Applicable Regulations section of this notice.

6. Other Submission Requirements

Applications for grants under this competition may be submitted electronically or in paper format by mail or hand delivery.

a. Electronic Submission of Applications

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from E-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because E-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If E-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail

If you submit your application in paper format by mail (through the U.S. Postal Service or a commercial carrier), you must mail the original and two copies of your application, on or before the application deadline date, to the Department at the following address: U.S. Department of Education, Application Control Center, Attention: (CFDA Number 84.327G), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.327G), 550 12th Street, SW., Room 7041, Potomac Center Plaza, Washington, DC 20202-4260.

The Application Control Center accepts hand deliveries daily between 8:00 a.m. and 4:30:00 p.m., Washington, DC time, except Saturdays, Sundays, and Federal holidays. Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from 34 CFR 75.210 and are listed in the application package.

2. Review and Selection Process: In the past, the Department has had difficulty finding peer reviewers for certain competitions because so many individuals who are eligible to serve as peer reviewers have conflicts of interest. The Standing Panel requirements under the IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures focus on the extent to which projects are high-quality, are relevant to improving outcomes of children with disabilities, and contribute to improving outcomes for children with disabilities. We will collect data on these measures from the project funded under this competition.

The grantee will be required to report information on its project's performance in annual reports to the Department (34 CFR 75.590).

VII. Agency Contact

FOR FURTHER INFORMATION CONTACT: David Malouf, U.S. Department of Education, 400 Maryland Avenue, SW., Room 4119, Potomac Center Plaza (PCP), Washington, DC 20202-2550. Telephone: (202) 245-6253.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services, to perform the functions of the Assistant Secretary for Special Education and Rehabilitative Services.

Dated: July 6, 2009.
Andrew J. Pepin,
Executive Administrator for Special Education and Rehabilitative Services.

[FR Doc. E9-16380 Filed 7-9-09; 8:45 am]

BILLING CODE 4000-01-P